DEPARTMENT OF COMMERCE

Foreign-Trade Zones Board

[S-3-2015]

Approval of Subzone Status; Thyssenkrupp Presta Danville, LLC; Danville, Illinois

On January 14, 2015, the Executive Secretary of the Foreign-Trade Zones (FTZ) Board docketed an application submitted by the Economic Development Corporation of Decatur & Macon County, grantee of FTZ 245, requesting subzone status subject to the existing activation limit of FTZ 245, on behalf of Thyssenkrupp Presta Danville, LLC, in Danville, Illinois.

The application was processed in accordance with the FTZ Act and Regulations, including notice in the Federal Register inviting public comment (80 FR 2914, 1-21-2015). The FTZ staff examiner reviewed the application and determined that it meets the criteria for approval. Pursuant to the authority delegated to the FTZ Board Executive Secretary (15 CFR 400.36(f)), the application to establish Subzone 245C is approved, subject to the FTZ Act and the Board's regulations, including Section 400.13, and further subject to FTZ 245's 1,822-acre activation limit.

Dated: March 6, 2015.
Andrew McGilvray,
Executive Secretary.

[FR Doc. 2015-05856 Filed 3-12-15; 8:45 am]

BILLING CODE 3510-DS-P